DEPARTMENT OF VETERANS AFFAIRS

Privacy Act of 1974; System of Records

AGENCY: Department of Veterans Affairs.

ACTION: Notice of amendment and republication of an existing system of records.

*

SUMMARY: The Privacy Act of 1974 (5 U.S.C. 552a(e)(4)) requires that all agencies publish in the Federal Register a notice of the existence and character of their records. The Department of Veterans Affairs (VA) gives notice that it is amending the system of records entitled “Current and Former Accredited Representative, Claims Agent, Representative and Claims Agent Applicant and Rejected Applicant and Attorney Records—VA” (01VA022) as set forth in the Federal Register, 40 FR 38095, Aug. 26, 1975; and amended in 47 FR 1460, Jan. 13, 1982, 54 FR 30969, Jul. 25, 1989, 59 FR 47377, Sep. 15, 1994, and 67 FR 54529, Aug. 22, 2002. VA is amending the system notice by (1) revising the System Name, System Location, Categories of Individuals Covered by the System, Categories of Records in the System, routine uses 2 and 5, and procedures for storage, retrievability, and safeguards; (2) rescinding routine use 8; and (3) adding a purpose data element and new routine uses 11 through 14. VA is republishing the system in its entirety.

DATES: Comments on the proposed amendments to this system of records must be received no later than June 17, 2009. If no public comments are received by this date, the amendments will become effective on June 17, 2009.

ADDRESSES: Written comments may be submitted through http://www.Regulations.gov; by mail or hand-delivery to the Director, Regulation Policy and Management (02REG), Department of Veterans Affairs, 810 Vermont Ave., NW., Room 1068, Washington, DC 20420; or by fax to (202) 273-9026. Copies of comments received will be available for public inspection in the Office of Regulation Policy and Management, Room 1063B, between the hours of 8 a.m. and 4:30 p.m. Monday through Friday (except holidays). Please call (202) 461-4902 for an appointment. In addition, during the comment period, comments may be viewed online through the Federal Docket Management System (FDMS).

FOR FURTHER INFORMATION CONTACT: Michael Daugherty (022G2), Staff Attorney, Professional Staff Group II, Office of the General Counsel, Department of Veterans Affairs, 810 Vermont Avenue, NW., Washington, DC 20420, (202) 461-7699.

SUPPLEMENTARY INFORMATION:

I. Description of the System of Records

The System of Records “Current and Former Accredited Representative, Claims Agent, Representative and Claims Agent Applicant and Rejected Applicant and Attorney Records—VA” (01VA022) contains VA's accreditation records. Accreditation means authorization by VA to assist claimants with the preparation, presentation, and prosecution of claims for veterans benefits. 38 CFR 14.627(a). VA accredits claims agents, attorneys, and representatives of recognized veterans service organizations to ensure that claimants for benefits have responsible, qualified representation before the Department. 38 CFR 14.626.

Before granting accreditation, VA's Office of the General Counsel (OGC) verifies the training, qualifications, and character and fitness of prospective agents, attorneys, and representatives of veterans service organizations through an application process. 38 CFR 14.629. After accreditation, OGC monitors the conduct of individuals providing representation through communications with the individuals providing representation, claimants for benefits, and other VA offices. When appropriate, OGC initiates proceedings to suspend or cancel accreditation. 38 CFR 14.633.

Statute and regulation provide a one-time exception to the requirement for formal VA accreditation in that an individual may provide representation on a particular claim before VA. 38 U.S.C. 5903; 38 CFR 14.630. Although VA does not “accredit” such individuals based on a review of their personal qualifications, individuals providing representation under this provision must comply with the same standards of conduct for representation before VA as apply to claims agents and attorneys. 38 U.S.C. 5903(b). VA may suspend or cancel this authorization under the provisions of 38 CFR 14.633.

VA last amended System of Records 01VA022 in December 2002. Since then, Congress has amended chapter 59 of title 38, United States Code, governing the accreditation of individuals for the preparation, presentation, and prosecution of claims for benefits before VA. See The Veterans Benefits, Health Care, and Information Technology Act of 2006, Public Law 109-461, section 101, 120 Stat. 3403 (2006). Several provisions of amended chapter 59 require collection, maintenance, and retrieval of information from new sources. In section 5904(a)(2), Congress directed that VA publish regulations requiring as a condition of accreditation for attorneys and agents, either a specific level of experience or the completion of specialized training. In section 5904(a)(3), Congress directed VA to prescribe in regulations a requirement that agents and attorneys annually provide VA with status information regarding each jurisdiction in which they are admitted to practice. Section 5904(a)(4) provides that VA may not accredit agents and attorneys suspended or disbarred from practice by any court, bar, or other Federal or State agency.

To implement these and other amendments to chapter 59 and to clarify and reorganize existing regulations, VA recently published regulations prescribing additional accreditation requirements. 73 FR 29852, May 22, 2008. The combined effect of the new statutes and regulations is to significantly expand OGC's accreditation responsibilities. Accordingly, VA proposes to amend System of Records 01VA022 to enable it to collect, manage, and retrieve individually-identifiable personal information pertaining to prospective, current, and former accredited individuals to ensure that claimants for benefits continue to have responsible, qualified representation before VA.

VA is revising the system name to more accurately reflect the purpose for which records within the system are maintained. Congress' recent amendments to chapter 59 and VA's subsequently published implementing regulations have expanded the scope of VA's accreditation program to include attorneys and individuals providing representation under 38 CFR 14.630. Accordingly, VA has revised the name of the system to the broader “Accreditation Records—VA” rather than simply adding categories of persons to the system name. Our intent in revising the system name to reflect its purpose is to make it easier for interested persons to identify the system.

In a document published in the Federal Register on September 15, 1994 (59 FR 47377), VA described the process by which the Veterans Benefits Administration (VBA) permitted individuals authorized to represent claimants before VA to have remote access to the records of the persons whom they represent. Since that time, VA has updated its information technology (IT) infrastructure, reorganized its IT workforce, and its process for granting remote access. This amendment describes the location of records maintained for purposes of granting remote access to veterans' information. It is important to note that although records relating to the remote access program are included in this system of records, they are not maintained by OGC. The system manager for remote access records in this system is the Director of VBA's Compensation and Pension Service.

Each individual is granted remote access to data within VBA's Benefits Delivery Network (BDN) or Veterans Service Network (VETSNET) Corporate application only after accreditation by the Office of the General Counsel. Accredited individuals seeking remote access must first complete VA's Training, Responsibility, Involvement, and Preparation (TRIP) program training and VA's Information Security Awareness training as a condition of being granted remote access. Following completion of required training, accredited individuals submit a request for local area network (LAN) access and a Common Security User Manager (CSUM) profile to the Facility Information Security Officer (FISO). After the FISO's review and VA Regional Office (VARO) Director's approval, the request goes to the Consultant, Compensation and Pension Interagency Sharing Staff (Consultant) for assignment of a unique code which identifies the accredited individual and limits his or her access to only those claimant records similarly identified. After the code has been created, the Consultant notifies the FISO so that the code can be included in the CSUM profile. After confirmation of code assignment, VA IT administrators or VARO LAN administrators create the appropriate profiles with approved access.

Accredited individuals granted remote access privileges to VBA's BDN or VETSNET data access VA's Wide Area Network through the VA Remote Enterprise Security Compliance Update Environment (RESCUE) Virtual Private Network (VPN) secure connection. From there, the request is routed to the Hines Citrix terminal server which provides access to the VBA applications. To ensure the security of the various systems, the FISOs and VARO IT system administrators monitor daily use of the Common Security Service (CSS) passwords and can request immediate reports for any apparent security violations. Security logs are maintained by the respective VARO FISO. All CSS records for application access are maintained in the Corporate database at the Austin Information Technology Center (AITC) in Austin, Texas. VA maintains remote access credentials on the LAN at each of the 58 VAROs, the Records Management Center, and at VBA's Central Office at 1800 G Street, Washington, DC, depending on the location at which the request for remote access was processed. All security violations and security profiles are maintained on the Corporate database at the AITC.

Changes noted under the Categories of Individuals Covered by the System and Categories of Records in the System headings reflect the addition of certain information on attorneys and individuals to the system of records, clarify the system description, and update the system description for consistency with current form designations.

Paragraphs (1) through (3) under the Categories of Individuals Covered by the System heading are revised to indicate that the system of records includes claims agents, attorneys, representatives of veterans service organizations, and individuals providing representation on a particular claim. Paragraphs (1) through (3) clarify that the system of records covers those persons mentioned above in all stages of the accreditation process beginning with the application and continuing beyond active accreditation. It includes those who have applied for accreditation, are currently accredited, and those who were formerly accredited. It is necessary to include the records of those formerly accredited to prevent VA from mistakenly granting accreditation to persons whose accreditation was suspended, cancelled, or who resigned in order to prevent suspension or cancellation of accreditation.

Paragraph (4) under the Categories of Individuals Covered by the System heading is revised to reflect amendments to chapter 59 and implementing regulations providing that representatives of veterans service organizations and individuals providing representation on a particular claim are subject to suspension or cancellation of accreditation on the same basis as applies to agents and attorneys. 38 U.S.C. 5902-5903. New paragraph (4) reflects records that OGC maintains on agents and attorneys, and additional records that it will maintain under recent regulations.

VA proposes to add a paragraph (5) under the Categories of Individuals Covered by the System heading to reflect the fact that OGC frequently receives communications from veterans, other VA offices, and individuals not accredited by VA inquiring as to whether specific acts require accreditation by VA and whether specific persons are accredited by VA for purposes of representation.

VA is amending three paragraphs under the Categories of Records in the System heading. Paragraph (5) is revised to include information collected for purposes of attorney accreditation. Paragraph (6) is revised to reflect that VA has new form numbers for the applications for accreditation of service organization representatives, and for claims agents and attorneys to represent veterans before VA. The language of paragraph (7) is revised to cover information regarding individuals authorized to provide representation on a particular claim before VA. Paragraph (8) is revised to include records involved in an inquiry as to the fitness of individuals authorized to represent individuals before VA on a one-time basis. Finally, a new paragraph (12) is added to cover records generated by inquiries to VA as to whether specific acts require accreditation by VA and whether specific persons are accredited by VA for purposes of representation.

VA is revising the authority for maintenance of the system to reflect changes made by Public Law 109-461 by adding references to sections 5901 and 5903 of title 38, United States Code.

A new section describing the purpose of the system of records is added to comply with § 3.12 of the National Archives and Records Administration's Federal Register Document Drafting Handbook. The purpose of this system of records is to enable VA to collect, maintain, and retrieve the individually identifiable information necessary to ensure that claimants for veterans benefits have responsible, qualified representation. 38 CFR 14.626.

II. Proposed Amendments to Routine Use Disclosures of Data in the System

VA is revising routine use 2 to allow for the disclosure of any information in the system of records relating to violations of law to a broad range of appropriate authorities such as the Federal Trade Commission, State insurance regulators, State attorney licensing authorities, and State Attorneys General or other State law enforcement authorities. VA is revising routine use 5 to clarify that the name, address, and phone number of agents, attorneys, and accredited representatives will be disclosed to the public to assist veterans in finding qualified representation. VA is rescinding routine use 8 because the authority for such disclosure is now encompassed within new routine use 2. VA has redesignated routine uses 9 through 11 as routine uses 8 through 10. VA has revised newly redesignated routine use 8 to allow for disclosure to the Department of Justice or other appropriate entities in litigation in defense of the United States. Timely disclosure in such matters assists the United States, plaintiffs, and the courts by not delaying court proceedings for want of records. VA is adding routine use 11 to allow disclosure of information in the system to the National Archives and Records Administration to facilitate the inspection of VA records management systems. VA is adding routine use 12 to allow it to disclose any information in the system to any individual, organization, or agency with whom it has a contract or agreement when such disclosure is necessary for performance of the contract or agreement. VA is adding routine use 13 to allow disclosure of any information in the system to other Federal agencies for the purpose of assisting agencies in detecting fraud and abuse in their programs. VA is adding routine use 14 to allow disclosure to appropriate authorities to enable VA to respond to and mitigate the harm resulting from any breach of the system of records; this routine use is promulgated in order to meet VA's statutory duties under 38 U.S.C. 5724 and the Privacy Act, 5 U.S.C. 552a, as amended.

III. Compatibility of the Proposed Routine Uses

Release of information from these records, pursuant to routine uses, will be made only in accordance with the provisions of the Privacy Act of 1974. The Privacy Act of 1974 permits agencies to disclose information about individuals, without their consent, for a routine use when the information will be used for a purpose for which the information was collected. VA has determined that the disclosure of information for the above purposes in the proposed amendment to routine uses is a proper and necessary use of the information collected by the system “Accreditation Records—VA.”

The report of intent to publish and an advance copy of the system notice have been sent to the appropriate Congressional committees and to the Director of the Office of Management and Budget (OMB) as required by 5 U.S.C. 552a(r) (Privacy Act) and guidelines issued by OMB (65 FR 77677, December 12, 2000).

Approved: April 30, 2009.
John R. Gingrich,
Chief of Staff, Department of Veterans Affairs.

01VA022

SYSTEM NAME:

Accreditation Records—VA.

SYSTEM LOCATION:

Records are maintained in the Office of General Counsel (022), and in the Veterans Benefits Administration (215A), VA Central Office, Washington, DC 20420. Records will also be maintained in Veterans Benefits Administration Regional Offices, Regional Counsel Offices, and the Facility Information Security Offices of the Office of Information & Technology's Field Security Service. Records also will be maintained in the Austin Information Technology Center in Austin, TX. Address locations are listed in VA's “Facility and Locator Directory” at http://www1.va.gov/directory/guide/home.asp.

CATEGORIES OF INDIVIDUALS COVERED BY THE SYSTEM:

(1) Persons who have applied for accreditation by VA, are currently accredited by VA, or were previously accredited by VA to represent claimants as claims agents or attorneys; (2) individuals who have applied for accreditation by VA, are currently accredited by VA, or were previously accredited by VA to provide representation on a particular claim; (3) individuals recommended for VA accreditation by a recognized veterans service organization, currently accredited by VA as a service organization representative or were previously accredited by VA as a service organization representative; (4) claims agents, attorneys, accredited representatives, and individuals providing representation on a particular claim who have been the subject of correspondence, investigations, or proceedings relating to their fitness to represent claimants for benefits before VA; and (5) individuals, acting alone, or as part of organizations, not accredited by VA, who have been the subject of correspondence or investigations as to the legality of their representation of claimants for VA benefits.

CATEGORIES OF RECORDS IN THE SYSTEM:

Records (or information contained in records) in this system may include: (1) Name and other identifying information; (2) address; (3) service organization affiliations; (4) claims agent examination and grade; (5) correspondence concerning prospective, present, or former claims agents, attorneys, and accredited representatives, including attorney and claims agent recommendations and evaluations from third parties; (6) VA Forms 2-21 (former Application for Accreditation as Service Organization Representative) 21 (Application for Accreditation as Service Organization Representative), and 21a (Application for Accreditation as a Claims Agent or Attorney); (7) correspondence concerning a prospective, present, or former individual providing representation in a particular claim; (8) investigative reports, correspondence and other information concerning the fitness of a prospective, present, or former claims agent, attorney, accredited representative, or individual providing representation in a particular claim; (9) documents, decisions, correspondence, and other information relating to or including the granting, denial, suspension, or cancellation of accreditation of representatives, claims agents, or attorneys, and information concerning the placement of representatives, claims agents, or attorneys on probation by VA or VA's issuance of a reprimand to such an individual pertaining to conduct relating to representation of claimants for benefits before VA; (10) information concerning an individual's exercise of remote access privileges to the Veterans Benefits Administration automated claim records, including identification codes and codes used to access various VA automated communications systems and records systems, as well as security profiles and possible security violations; (11) information, documents, correspondence, and decisions relating to the application for, and the grant, denial, suspension, or revocation of an individual's privilege of remote access to Veterans Benefits Administration automated claim records; (12) information, documents, correspondence, and decisions regarding the legality of representation provided to claimants seeking benefits by unaccredited individuals.

AUTHORITY FOR MAINTENANCE OF THE SYSTEM:

Title 38, United States Code, Sections 501(a), 5901, 5902, 5903 and 5904.

PURPOSE(S):

The information collected in the system is used to ensure that claimants for veterans benefits have qualified, competent representation. The information will be used to determine whether a person is qualified to represent claimants before VA and, once accredited, whether a person may continue to represent claimants before VA.

ROUTINE USES OF RECORDS MAINTAINED IN THE SYSTEM, INCLUDING CATEGORIES OF USERS AND THE PURPOSES OF SUCH USES:

1. The record of an individual who is covered by this system may be disclosed to a member of Congress, or a staff person acting for the member, when the member or staff person requests the record on behalf of and at the request of that individual.

2. VA may disclose on its own initiative any information in the system, except the names and home addresses of veterans and their dependents, that is relevant to a suspected or reasonably imminent violation of the law whether civil, criminal, or regulatory in nature and whether arising by statute, regulation, rule, or order issued pursuant thereto, to a Federal, state, local, tribal, or foreign agency charged with the responsibility of investigating or prosecuting such violation, or charged with enforcing or implementing the statute, regulation, rule, or order. VA may also disclose on its own initiative the names and addresses of veterans and their dependents to a Federal agency charged with the responsibility of investigating or prosecuting civil, criminal, or regulatory violations of law, or charged with enforcing or implementing the statute, regulation, or order issued pursuant thereto.

3. The name and address of a veteran which is relevant to a suspected violation or reasonably imminent violation of law, whether civil, criminal or regulatory in nature and whether arising by general or program statute or by regulation, rule or order issued pursuant thereto, may be disclosed to a Federal agency charged with the responsibility of investigating or prosecuting such violation, or charged with enforcing or implementing the statute, regulation or order issued pursuant thereto, in response to its official request.

4. The name and address of a veteran, which is relevant to a suspected violation or reasonably imminent violation of law concerning public health or safety, whether civil, criminal or regulatory in nature whether arising by general or program statute or by regulation, rule or order issued pursuant thereto, may be disclosed to any foreign, State or local governmental agency or instrumentality charged under applicable law with the protection of the public health or safety if a qualified representative of such organization, agency or instrumentality has made a written request that such name and address be provided for a purpose authorized by law.

5. The name, business address, phone number, and service organization affiliation(s) of claims agents, attorneys, and accredited representatives may be disclosed to requesting service organizations, claimants for benefits, and the general public in order to aid the requestor in verifying the identity and service organization affiliation of the accredited representative.

6. Listings containing the names, business addresses, and status of accreditation of present and former accredited representatives may be provided to recognized service organizations.

7. The name and address of a prospective, present, or former accredited representative, and any information concerning such accredited representative which is relevant to a refusal to grant accreditation, or a potential or past suspension or termination of accreditation of such representative, may be disclosed to the service organization(s) with whom the representative is affiliated.

8. VA may disclose information from this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to DoJ is a use of the information contained in the records that is compatible with the purpose for which VA collected the records. VA, on its own initiative, may also disclose records in this system of records in legal proceedings before a court or administrative body after determining that the disclosure of the records to the court or administrative body is a use of the information contained in the records that is compatible with the purpose for which VA collected the records.

9. VA may disclose the name and address of any prospective, present, or former accredited representative, claims agent, or attorney, and any information concerning such individual that relates to unlawful, unprofessional, or unethical actions by that individual or to VA's denial, cancellation, suspension or termination of an individual's VA accreditation, or to both, where applicable, to employing entities and State and Federal licensing organizations when such information may be relevant to the initial or continued employment or licensing of a prospective, present, or former accredited representative, claims agent, or attorney by an employing entity or licensing organization. VA will not disclose the names and home addresses of claimants and their dependents to licensing organizations pursuant to this routine use.

10. VA may disclose the name and address of any prospective, present, or former accredited representative, claims agent, or attorney, and any information concerning such individual that relates to unlawful, unprofessional, or unethical actions by that individual or to VA's denial, cancellation, suspension or termination of an individual's VA accreditation, or to both, where applicable, to other Federal and State agencies and to Federal courts when such information may be relevant to the individual's provision of representational services before such agency or court. VA will not disclose the names and home addresses of claimants and their dependents pursuant to this routine use.

11. Disclosure may be made to the National Archives and Records Administration (NARA) and the General Services Administration (GSA) in records management inspections conducted under the authority of chapter 29 of title 44, United States Code.

12. Disclosure of relevant information may be made to individuals, organizations, private or public agencies, or other entities with whom VA has a contract or agreement or where there is a subcontract to perform such services as VA may deem practicable for the purposes of laws administered by VA, in order for the contractor or subcontractor to perform the services of the contract or agreement.

13. Disclosure to other Federal agencies may be made to assist such agencies in preventing and detecting possible fraud or abuse by individuals in their operations and programs.

14. VA may, on its own initiative, disclose any information or records to appropriate agencies, entities, and persons when (1) VA suspects or has confirmed that the integrity or confidentiality of information in the system of records has been compromised; (2) the Department has determined that as a result of the suspected or confirmed compromise, there is a risk of embarrassment or harm to the reputations of the record subjects, harm to economic or property interests, identity theft or fraud, or harm to the security, confidentiality, or integrity of this system or other systems or programs (whether maintained by the Department or another agency or entity) that rely upon the potentially compromised information; and (3) the disclosure is to agencies, entities, or persons whom VA determines are reasonably necessary to assist or carry out the Department's efforts to respond to the suspected or confirmed compromise and prevent, minimize, or remedy such harm. This routine use permits disclosures by the Department to respond to a suspected or confirmed data breach, including the conduct of any risk analysis or provision of credit protection services as provided in 38 U.S.C. 5724, as the terms are defined in 38 U.S.C. 5727.

POLICIES AND PRACTICES FOR STORING, RETRIEVING, ACCESSING, RETAINING, AND DISPOSING OF RECORDS IN THE SYSTEM:

STORAGE:

Active records are maintained in individual folders stored in file cabinets. File cards with name and business addresses of individuals previously covered by this system are maintained in file cabinets; these records and those of newly accredited persons are also maintained in an electronic database. Listings of claim agents, attorneys, and accredited representatives are maintained both on magnetic disk and in hard copy in file cabinets. Identification codes and codes used to access various VA automated communications systems and records systems, as well as security profiles and possible security violations, are maintained on magnetic media in a secured environment within VA workspaces. Hard copies are maintained in locked containers.

RETRIEVABILITY:

Records and electronic files are maintained in alphabetical order by last name of the individuals covered by this system. A searchable list of claims agents, attorneys, and accredited representatives is available at OGC's internet Web site http://www.va.gov/ogc/apps/accreditation/index.html. Information concerning possible security violations associated with exercise or remote access privileges is retrieved by individual assignment numbers. Information concerning individual security profiles and codes assigned to an individual for that person to obtain access to various computer systems is retrieved by the individual's assignment number.

SAFEGUARDS:

1. This list of safeguards furnished in this System of Record is not an exclusive list of measures that has been, or will be, taken to protect individually-identifiable information.

VA will maintain the data in compliance with applicable VA security policy directives that specify the standards that will be applied to protect sensitive personal information. Security complies with applicable Federal Information Processing Standards (FIPS) issued by the National Institute of Standards and Technology (NIST). Access to and use of these records are limited to those persons whose official duties require such access. Personnel screening is employed to prevent unauthorized disclosure.

2. Access to Automated Data Processing files is controlled at two levels: (1) Terminals, central processing units, and peripheral devices are generally placed in secure areas (areas that are locked or have limited access) or are otherwise protected; and (2) the system recognizes authorized users by means of an individually unique password entered in combination with an individually unique user identification code.

3. Access to automated records concerning identification codes and codes used to access various VA automated communications systems and records systems, as well as security profiles and possible security violations is limited to designated automated systems security personnel who need to know the information in order to maintain and monitor the security of the VA's automated communications and veterans' claim records systems. Access to these records in automated form is controlled by individually unique passwords/codes. Agency personnel may have access to the information on a need to know basis when necessary to advise agency security personnel or for use to suspend or revoke access privileges or to make disclosures authorized by a routine use.

4. Access to VA facilities where records, identification codes, passwords, security profiles and possible security violations are maintained is controlled at all hours by the Federal Protective Service, VA, or other security personnel and security access control devices.

RETENTION AND DISPOSAL:

VA maintains and disposes of records in accordance with records disposition authority approved by the Archivist of the United States.

SYSTEM MANAGER(S) AND ADDRESS:

Assistant General Counsel (022), 810 Vermont Ave., NW., Washington, DC 20420; Director, Compensation and Pension Service (21), 810 Vermont Ave., NW., Washington, DC 20420.

NOTIFICATION PROCEDURE:

An individual who wishes to determine whether a record is being maintained by the Assistant General Counsel under his or her name or other personal identifier, or wants to determine the contents of such records should submit a written request to the Assistant General Counsel (022), 810 Vermont Ave., NW., Washington, DC 20420. For requests concerning remote access program records, an individual should submit a written request to the Director, Compensation and Pension Service (21), 810 Vermont Ave., NW., Washington, DC 20420.

RECORD ACCESS PROCEDURES:

Individuals seeking copies of records under this system that pertain to themselves, or seeking to amend such records, should make those requests under the Privacy Act. Individuals seeking copies of records pertaining to others should request them under the Freedom of Information Act. All such requests must contain a reasonable description of the records requested and should be in writing, over the original, handwritten signature of the requester, and should be mailed to: FOIA/PA Officer (026G), Office of General Counsel, 810 Vermont Ave., NW., Washington, DC 20420. For requests concerning remote access program records, an individual should submit a written request to: FOIA/PA (20M33), Veterans Benefits Administration, 810 Vermont Ave., NW., Washington, DC 20420.

CONTESTING RECORD PROCEDURES:

See Records Access Procedures above.

RECORD SOURCE CATEGORIES:

Applications for accreditation of individuals, correspondence with and updates from accredited individuals, investigative materials, and recommendations and correspondence from service organizations and third parties.

EXEMPTIONS CLAIMED FOR THE SYSTEM:

None.

[FR Doc. E9-11499 Filed 5-15-09; 8:45 am]

BILLING CODE 8320-01-P